DEPARTMENT OF ENERGY

Federal Energy Regulatory Commission

[Docket No. CP22-15-000]

Texas Eastern Transmission, LP; Notice of Additional Virtual Public Scoping Session

On March 16, 2022, the Commission issued a notice stating it would conduct a virtual public scoping session on March 30, 2022, requesting comments on the Venice Extension Project in Pointe Coupee, Iberville, Lafourche, and Plaquemines Parishes, Louisiana. However, technical difficulties at the start of this meeting prevented stakeholders from accessing the private room to relay their verbal comments to the court reporter. Therefore, we have rescheduled this meeting to occur on April 26, 2022, as identified below.

Date and Time

Tuesday, April 26, 2022, 5:00 p.m.-7:00 p.m. (EST), Call in number: 888-391-6570, Participant code: 6282096

This notice is being sent to the Commission's current environmental mailing list for the Project. Public sessions or site visits will be posted on the Commission's calendar located at https://www.ferc.gov/news-events/events along with other related information.

Dated: April 14, 2022.
Debbie-Anne A. Reese,
Deputy Secretary.

[FR Doc. 2022-08466 Filed 4-19-22; 8:45 am]

BILLING CODE 6717-01-P